ENVIRONMENTAL PROTECTION AGENCY

[FRL-6702-2]

Agency Information Collection Activities: Submission for OMB Review; Comment Request; Performance Track Program Level One: The Environmental Achievement Track

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Performance Track Program Level One: The Environmental Achievement Track, ICR Number 1949.01. The ICR describes the nature of the information collection and its expected burden and cost; where appropriate, it includes the actual data collection instrument.

DATES: Comments must be submitted on or before June 19, 2000.

FOR FURTHER INFORMATION CONTACT: For a copy of the ICR contact Sandy Farmer at EPA by phone at (202) 260-2740, by E-Mail at Farmer.Sandy@epamail.epa.gov or download off the Internet at http://www.epa.gov/icr and refer to EPA ICR No.1949.01. For technical questions about the ICR contact Ken Munis, at 202-260-9560.

SUPPLEMENTARY INFORMATION: Title: Performance Track Program Level One: The Environmental Achievement Track, EPA ICR No. 1949.01. This is a new collection.

Abstract: The Environmental Protection Agency is developing a national Performance Track Program. In the July, 1999 report, “Aiming for Excellence: Actions to Encourage Stewardship and Accelerate Environmental Progress,” the Agency committed to developing a Performance Track Program to reward and motivate top environmental performance.

The Performance Track is a two-tiered, voluntary program designed to promote leadership in environmental protection through the use of Environmental Management Systems (EMS), Pollution Prevention Programs, and public reporting. Qualifying program participants will benefit from a variety of incentives, such as public recognition, reduced monitoring and reporting, and operational flexibility. EPA will announce and begin to solicit applications for level one of the Performance Track, the Environmental Achievement Track, in June of 2000. Level two, the Environmental Stewardship Track, will be announced in May of 2001.

Participation in the Performance Track program is voluntary. To be considered for acceptance into the program, applicants for the Environmental Achievement Track will be asked to submit information documenting their EMS, history of compliance with EPA regulations, commitment to continuous environmental performance improvement, and commitment to public outreach and performance reporting. Upon acceptance to the Environmental Achievement Track, participants will be required to make environmental performance reports accessible to the public.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 3/02/2000 (65 FR 11305); no comments were received.

Burden Statement: The annual public reporting and record keeping burden for this collection of information is estimated to average 252 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Various Industries

Estimated Number of Respondents: 250.

Frequency of Response: Annually .

Estimated Total Annual Hour Burden: 50,450 hours.

Estimated Total Annualized Capital, O&M Cost Burden: 0

Send comments on the Agency's need for this information, the accuracy of the provided burden estimates, and any suggested methods for minimizing respondent burden, including through the use of automated collection techniques to the following addresses. Please refer to EPA ICR No. 1949.01 in any correspondence.

Ms. Sandy Farmer, U.S. Environmental Protection Agency, Office of Environmental Information, Collection Strategies Division (2822), 1200 Pennsylvania Ave, NW, Washington, DC 20460;

and

Office of Information and Regulatory Affairs, Office of Management and Budget, Attention: Desk Officer for EPA, 725 17th Street, NW, Washington, DC 20503.

Dated: May 11, 2000.
Oscar Morales,
Director, Collection Strategies Division.

[FR Doc. 00-12518 Filed 5-17-00; 8:45 am]

BILLING CODE 6560-50-P